DEPARTMENT OF COMMERCE

National Oceanic and Atmospheric Administration

[I.D. 100505C]

Fisheries of the South Atlantic; Workshop to finalize the South Atlantic Fishery Management Council's Deepwater Coral Research and Monitoring Plan.

AGENCY: National Marine Fisheries Service (NMFS), National Oceanic and Atmospheric Administration (NOAA), Commerce.

ACTION: Notice of Workshop to finalize Deepwater Coral Research and Monitoring Plan.

SUMMARY: The South Atlantic Fishery Management Council (Council) will conduct a workshop to finalize the Council's Deepwater Coral Research and Monitoring Plan in St. Petersburg, FL.

DATES: The workshop will take place October 26 and 27, 2005. See SUPPLEMENTARY INFORMATION for specific dates, times and agenda.

ADDRESSES: The workshop will be held at the Florida Fish and Wildlife Research Institute, 100 Eighth Avenue, S.E., St. Petersburg, FL 33701; telephone: (727) 896-8626; fax: (727) 893-2947.

FOR FURTHER INFORMATION CONTACT: Kim Iverson, Public Information Officer, South Atlantic Fishery Management Council, One Southpark Circle, Suite 306, Charleston, SC 29407-4699; telephone: (843) 571-4366 or toll free: (866) SAFMC-10; fax: (843) 769-4520; email: kim.iverson@safmc.net.

SUPPLEMENTARY INFORMATION: Invited workshop participants will meet from 8:30 a.m. - 5 p.m. on October 26, 2005, and from 8:30 a.m. - 1 p.m. on October 27, 2005, to complete a draft of the Council's Deepwater Coral Research and Monitoring Plan. This workshop is a follow up to one held in 2004. The workshop is designed to consolidate and refine sections of the draft document that have been developed through the use of a web portal. When completed, the detailed research and monitoring plan will be integrated into the Council's developing Fishery Ecosystem Plan and support long-term research needs for the proposed deepwater Lophelia coral Habitat Areas of Particular Concern. In addition, the research plan will also comprise the South Atlantic component of NOAA's national strategy for research and monitoring of deepwater coral communities.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Note: The times and sequence specified in this agenda are subject to change.

Special Accommodations

These meetings are physically accessible to people with disabilities. Requests for auxiliary aids should be directed to the Council office (see ADDRESSES) 3 days prior to the meetings.

Dated: October 6, 2005.
Emily Menashes,
Acting Director, Office of Sustainable Fisheries, National Marine Fisheries Service.

[FR Doc. E5-5576 Filed 10-11-05; 8:45 am]

BILLING CODE 3510-22-S